ENVIRONMENTAL PROTECTION AGENCY

[FRL -7896-1]

Science Advisory Board Staff Office; Notification of an Upcoming Science Advisory Board Meeting

AGENCY: Environmental Protection Agency (EPA).

ACTION: Notice.

SUMMARY: The EPA Science Advisory Board (SAB) Staff Office announces a public teleconference meeting of an SAB Quality Review Committee (QRC) to discuss and to review a draft SAB report, Identifying and Calculating Economic Benefit that Goes Beyond Avoided and/or Delayed Costs: An SAB Draft Advisory.

DATES: April 29, 2005. A public telephone conference meeting of the SAB Quality Review Committee (QRC) will be held on April 29, 2005, from 1 p.m. until 3 p.m. (eastern time) to discuss the draft SAB report, Identifying and Calculating Economic Benefit that Goes Beyond Avoided and/or Delayed Costs: An SAB Draft Advisory.

ADDRESSES: The meeting for this review will be held by telephone only. Members of the public who wish to obtain the call-in number for this meeting should contact the Designated Federal Officer (DFO) for this meeting. The SAB mailing address is: U.S. EPA, Science Advisory Board (1400F), 1200 Pennsylvania Avenue, NW., Washington, DC 20460. General information about the SAB, as well as any updates concerning the meeting announced in this notice, may be found on the SAB Web site at: http://www.epa.gov/sab.

FOR FURTHER INFORMATION CONTACT: Members of the public who wish to obtain information regarding this teleconference meeting may contact Mr. Thomas O. Miller, DFO, at (202) 343-9982 or e-mail at miller.tom@epa.gov.

SUPPLEMENTARY INFORMATION: EPA's Office of Enforcement and Compliance Assurance (OECA) requested that the EPA Science Advisory Board review the OECA White Paper entitled Identifying and Calculating Economic Benefit that Goes Beyond Avoided and/or Delayed Costs, dated May 25, 2003. Accordingly, the SAB Staff Office formed an Ad Hoc Panel to review the EPA White Paper. This was announced in a notice in the Federal Register of August 6, 2003 (68 FR 46604) in which the SAB Staff Office solicited nominations for Panel membership. The Panel held several meetings to discuss and draft its advisory as announced in Federal Register notices published on June 25, 2004 (69 FR 35599) and January 6, 2005 (70 FR 1244). These notices can be found on the SAB Web site at: http://www.epa.gov/sab/panels/icaebapanel.html.

The White Paper addressing “illegal competitive advantage” (ICA) issues is related to EPA's policy of recapturing violators' economic benefit from environmental noncompliance. Most of the Agency's cases involving this type of economic benefit focus on the financial gain that arises from delayed and/or avoided pollution control costs. In these situations, the Agency calculates the economic benefit using the “BEN” (Benefits) computer model. EPA's White Paper provides an approach to capture economic benefits from situations that are not covered by the BEN model's focus on avoided and/or delayed expenditures.

The SAB is now conducting a quality review of the Panel's draft advisory report. The purpose of the QRC is to determine whether: (i) The original charge questions to the SAB review panel have been adequately addressed, (ii) the report is clear and logical, and (iii) any conclusions drawn, or recommendations provided, are supported by the body of information in the advisory report. The outcome of the QRC review will be one, or a combination of one or more, of the following: (i) Recommend SAB approval of the report without substantive change, (ii) return the report to the review panel for further work, or (iii) reject the work of the review panel and request a reconsideration and a revised report in the future.

Availability of Review Material for the Board Meeting: Documents that are the subject of this meeting are available on the SAB Web site at: http://www.epa.gov/sab/panels/icaebapanel.html.

Procedures for Providing Public Comment: The SAB Staff Office accepts written public comments of any length, and accommodates oral public comments whenever possible. The SAB Staff Office expects that public statements presented at SAB meetings will not be repetitive of previously submitted oral or written statements. Oral Comments: In general, each individual or group requesting an oral presentation at a teleconference meeting will usually be limited to no more than three minutes per speaker and no more than fifteen minutes total. Interested parties should contact the DFO noted above in writing via e-mail at least one week prior to the meeting in order to be placed on the public speaker list for the meeting. Speakers should provide an electronic copy of their comments for distribution to interested parties and participants in the meeting. Written Comments: Although written comments are accepted until the date of the meeting (unless otherwise stated), written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 98/2000/XP format).

Meeting Accommodations: Individuals requiring special accommodation to access these meetings, should contact the DFO at least five business days prior to the meeting so that appropriate arrangements can be made.

Dated: March 31, 2005.
Vanessa T. Vu,
Director, EPA Science Advisory Board Staff Office.

[FR Doc. 05-6945 Filed 4-6-05; 8:45 am]

BILLING CODE 6560-50-P